DEPARTMENT OF HOUSING AND URBAN DEVELOPMENT

[Docket No. FR-5273-N-01]

Disaster Housing Assistance Program (DHAP) for Hurricane Ike (DHAP-Ike)

AGENCY: Office of the Assistant Secretary for Public and Indian Housing, HUD.

ACTION: Notice.

SUMMARY: This document provides notice that HUD and the Federal Emergency Management Agency (FEMA) have executed an Interagency Agreement under which HUD shall act as the servicing agency of DHAP-Ike commencing November 1, 2008. DHAP-Ike is a joint initiative undertaken by HUD and FEMA to provide monthly rental assistance, case management services, security deposit, and utility deposit assistance for certain families displaced from their homes by Hurricane Ike or Hurricane Gustav. The operating requirements for the DHAP-Ike are found in HUD Notice PIH 2008-38, issued October 14, 2008. HUD Notice PIH 2008-38 and related program information on the DHAP-Ike is available on HUD's Web site at http://www.hud.gov/offices/pih/publications/ike.cfm.

To be eligible for DHAP-Ike, a family must have been displaced by Hurricane Ike or Hurricane Gustav, determined eligible for DHAP-Ike assistance by FEMA and referred to HUD by FEMA. Initially there are no income eligibility requirements for DHAP-Ike assistance. However, only families with housing costs that exceed 30 percent of the family's monthly income are eligible for continued DHAP-Ike rental assistance and case management services after the earlier of July 31, 2009, or 6 months following the effective date of the Disaster Rent Subsidy Contract executed on behalf of the family.

HUD will invite public housing agencies (PHAs) that currently administer DHAP to administer DHAP-Ike in their jurisdiction based on several factors such as where the DHAP-Ike eligible families are currently residing or have indicated they wish to receive DHAP-Ike assistance.

DHAP-Ike is a temporary assistance program and will terminate with the March 2010 subsidy payment.

FOR FURTHER INFORMATION CONTACT: David A. Vargas, Associate Deputy Assistant Secretary for Public Housing and Voucher Programs, Office of Public and Indian Housing, Department of Housing and Urban Development, 451 7th Street, SW., Room 4228, Washington, DC 20410, telephone number 202-708-2815 (this is not a toll-free number). Individuals with speech or hearing impairments may access this number through TTY by calling the toll-free Federal Information Relay Service at 800-877-8339.

SUPPLEMENTARY INFORMATION: In August and September, 2008, Hurricanes Ike and Gustav struck the United States, causing catastrophic damage to property, loss of life, and the displacement of tens of thousands of individuals from their homes and communities.

As HUD is responsible for administering the Housing Choice Voucher (HCV) Program, the nation's largest tenant-based rental subsidy program, and has also successfully implemented the Katrina Housing Assistance Payments Program (KDHAP), the Disaster Voucher Program (DVP), and DHAP, FEMA has requested that HUD design a program for eligible families affected by Hurricanes Ike and Gustav that is modeled after those four programs.

In September 2008, HUD and FEMA executed an Interagency Agreement (IAA) under which HUD shall act as the servicing agency of the DHAP-Ike. HUD will utilize its existing network of local PHAs to administer the program. These PHAs administer the HCV program and as a result have the necessary local market knowledge and expertise in assisting families through a tenant-based subsidy program. In addition, through their administration of the KDHAP, DVP, and DHAP, the PHAs are experienced in working with significant numbers of families that have been displaced by disasters.

Pursuant to FEMA's grant authority, grants will be provided to local PHAs to administer DHAP-Ike on behalf of FEMA. Under DHAP-Ike, PHAs will make rental assistance payments on behalf of eligible families to participating landlords for a period not to exceed 17 months, with all rental assistance payments ending with the March 2010 subsidy payment. In order to prepare the family for this eventuality, case management services are provided for the entire duration of DHAP-Ike. These case management services include assisting participants to identify non-disaster supported housing solutions such as other affordable housing options that may be available for income eligible families.

In addition, beginning on May 1, 2009, families will be required to pay a portion of rent of $50, which will increase by an additional $50 each subsequent month. This gradual increase in the family share will further prepare the family to assume full responsibility for their housing costs at the end of DHAP-Ike.

PHA responsibilities for DHAP-Ike include calculating the monthly rent subsidy and making monthly rent subsidy payments on behalf of participating families, determining income eligibility for continued assistance under DHAP-Ike, performing housing quality standards inspections when necessary, applying appropriate subsidy standards for families, and determining rent reasonableness for certain units. The PHA is also responsible for terminating the family's participation in the DHAP-Ike if the family fails to comply with the family obligations of the program or in accordance with DHAP-Ike operating requirements.

More detailed information about DHAP-Ike and the governing operating requirements for the program can be accessed via the HUD Web site at http://www.hud.gov/offices/pih/publications/ike.cfm. Any subsequent revisions or amendments to those requirements and any further supplemental information will also be made available on the above Web site.

Dated: December 9, 2008.
Paula O. Blunt,
General Deputy Assistant Secretary for Public and Indian Housing.

[FR Doc. E8-29947 Filed 12-16-08; 8:45 am]

BILLING CODE 4210-67-P